DEPARTMENT OF DEFENSE

Office of the Secretary

Defense Science Board

AGENCY: Department of Defense.

ACTION: Notice of Advisory Committee meeting.

SUMMARY: The Defense Science Board Task Force on Management Oversight of Acquisition Organizations will meeting closed session on December 17, 2004, at SAIC, 4001 N. Fairfax Drive, Arlington, VA. This Task Force will review the contracting and acquisition of several organizations. Two organizations will provide classified programs (SOCOM and MDA). The military departments will provide actual examples of acquisitions using source selection data to include proprietary information. The inclusion of classified and proprietary information does not lend itself to an open meeting.

The mission of the Defense Science Board is to advise the Secretary of Defense and the Under Secretary of Defense for Acquisition, Technology & Logistics on scientific and technical matters as they affect the perceived needs of the Department of Defense. At these meetings, the Defense Science Board Task Force will assess whether all major acquisition organizations within the Department have adequate management and oversight processes, including what changes might be necessary to implement such process where needed. The task force will also review whether simplification of the acquisition structure could improve both efficiency and oversight.

In accordance with Section 10(d) of the Federal Advisory Committee Act, Public Law 92-463, as amended (5 U.S.C. App. 2), it has been determined that these Defense Science Board Task Force meetings concern matters listed in 5 U.S.C. 552b(c)(1) and that, accordingly, these meetings will be closed to the public.

Dated: December 6, 2004.
Jeannette Owings-Ballard,
OSD Federal Register Liaison Officer, Department of Defense.

[FR Doc. 04-27121 Filed 12-9-04; 8:45 am]

BILLING CODE 5001-06-M